DEPARTMENT OF AGRICULTURE

Natural Resources Conservation Service

Notice of Finding of No Significant Impact for the Williamson River Delta Restoration Project

AGENCY: Natural Resources Conservation Service (NRCS).

ACTION: Notice of availability of a Finding of No Significant Impact for the Williamson River Delta Restoration Project in Oregon for review and comment.

SUMMARY: It is the intention of NRCS in Oregon to issue a Finding of No Significant Impact for the Williamson River Delta Restoration Project in Oregon. An Environmental Assessment (EA) was previously prepared with the required public involvement and comment period.

DATES: Comments must be received on or before September 5, 2000.

ADDRESSES: Copies of this Finding of No Significant Impact will be made available upon written request. Address all requests and comments to C. R. Vigil, Jr., Acting State Conservationist, Natural Resources Conservation Service (NRCS), 101 SW Main Street, Suite 1300, Portland, Oregon 97204.

FOR FURTHER INFORMATION CONTACT: C.R. Vigil, Jr., 503-414-3200.

SUPPLEMENTARY INFORMATION: Section 1506.6 of the Code of Federal Regulations states that there will be public involvement on actions proposed by Federal Agencies. For the next 30 days, the NRCS in Oregon will receive comments relative to the Finding of No Significant Impact. Following that period, a determination will be made by the NRCS in Oregon regarding disposition of those comments and a final determination of the Finding of No Significant Impact will be made.

Dated: July 28, 2000.
C.R. Vigil, Jr.,
Acting State Conservationist, Portland, Oregon.

[FR Doc. 00-19696 Filed 8-2-00; 8:45 am]

BILLING CODE 3410-16-U